DEPARTMENT OF LABOR

Employment And Training Administration

[TA-W-55,573]

Libbey Glass, Inc., Walnut, CA; Notice of Termination of Investigation

Pursuant to section 221 of the Trade Act of 1974, an investigation was initiated on July 22, 2004 in response to a worker petition which was filed by the United Steelworkers of America on behalf of workers at Libbey Glass, Inc., Walnut, California.

The petitioner has requested that the petition be withdrawn. Consequently, the investigation has been terminated.

Signed in Washington, DC, this 21st day of September, 2004.
Richard Church,
Certifying Officer, Division of Trade Adjustment Assistance.

[FR Doc. E4-2545 Filed 10-7-04; 8:45 am]

BILLING CODE 4510-30-P